DEPARTMENT OF COMMERCE

Bureau of Industry and Security

15 CFR Part 744

[Docket No. 210702-0143]

RIN 0694-AI57

Addition of Certain Entities to the Entity List; Revision of Existing Entry on the Entity List; Removal of Entity From the Unverified List; and Addition of Entity to the Military End-User (MEU) List

AGENCY: Bureau of Industry and Security, Commerce.

ACTION: Final rule.

SUMMARY: This final rule amends the Export Administration Regulations (EAR) by adding thirty-four entities under forty-three entries to the Entity List. These thirty-four entities have been determined by the U.S. Government to be acting contrary to the foreign policy interests of the United States and will be listed on the Entity List under the destinations of Canada; People's Republic of China (China); Iran; Lebanon; Netherlands (The Netherlands); Pakistan; Russia; Singapore; South Korea; Taiwan; Turkey; the United Arab Emirates (UAE); and the United Kingdom. This final rule also revises one entry on the Entity List under the destination of China. This final rule also removes one entry from the Entity List under the destination of Germany. This final rule removes one entity from the Unverified List, as a conforming change to this same entity being added to the Entity List. In addition, this final rule amends the EAR by adding one entity to the Military End-User (MEU) List under the destination of Russia.

DATES: This rule is effective July 12, 2021.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License Review Policy” column on the Entity List, and the impact on the availability of license exceptions is described in the relevant Federal Register document adding entities to the Entity List. BIS places entities on the Entity List pursuant to part 744 (Control Policy: End-User and End-Use Based) and part 746 (Embargoes and Other Special Controls) of the EAR.

The `Military End-User' (MEU) List (supplement no. 7 to part 744 of the EAR) identifies entities that have been determined by the End-User Review Committee (ERC) to be `military end users' pursuant to § 744.21 of the EAR. That section imposes additional license requirements on, and limits the availability of, most license exceptions for, exports, reexports, and transfers (in-country) to listed entities on the MEU List, as specified in supplement no. 7 to part 744 and § 744.21 of the EAR. Entities may be listed on the MEU List under the destinations of Burma, China, Russia, or Venezuela. The license review policy for each listed entity is identified in the introductory text of supplement no. 7 to part 744 and in § 744.21(b) and (e). The MEU List includes introductory text, which specifies the scope of the license requirements, limitations on the use of EAR license exceptions, and the license review policy that applies to the entities. These requirements are also reflected in § 744.21, but for ease of reference, these are also included in the introductory text of the supplement.

The Unverified List, found in supplement no. 6 to part 744 of the EAR, contains the names and addresses of foreign persons who are or have been parties to a transaction, as such parties are described in § 748.5 of the EAR, involving the export, reexport, or transfer (in-country) of items subject to the EAR, and whose bona fides BIS has been unable to verify through an end-use check. BIS may add persons to the Unverified List when BIS or federal officials acting on BIS's behalf have been unable to verify a foreign person's bona fides because an end-use check, such as a pre-license check or a post-shipment verification, cannot be completed satisfactorily for reasons outside the U.S. Government's control.

The ERC, composed of representatives of the Departments of Commerce (Chair), State, Defense, Energy and, where appropriate, the Treasury, makes all decisions regarding additions to, removals from, or other modifications to the Entity List and MEU List. The ERC makes all decisions to add an entry to the Entity List and MEU List by majority vote and makes all decisions to remove or modify an entry by unanimous vote. In addition, when an entity listed on the Unverified List is being added to the Entity List based on a majority vote of the ERC, the ERC's determination to add that entity to the Entity List constitutes interagency approval for a conforming change to remove the same entity from the Unverified List in supplement no. 6 to part 744 of the EAR.

ERC Entity List Decisions

Additions to the Entity List

This rule implements the decision of the ERC to add thirty-four entities under forty-three entries to the Entity List. The thirty-four entities are added based on § 744.11 (License requirements that apply to entities acting contrary to the national security or foreign policy interests of the United States) of the EAR. The thirty-four entities are located in Canada; China; Iran; Lebanon; the Netherlands; Pakistan; Russia; Singapore; South Korea; Taiwan; Turkey; the UAE; and the United Kingdom. Of the forty-three entries, two are located in Canada, twenty-three are located in China, two are located in Iran, two are located in Lebanon, one is located in the Netherlands, one is located in Pakistan, six are located in Russia, one is located in Singapore, one is located in South Korea, one is located in Taiwan, one is located in Turkey, one is located in the UAE, and one is located in the United Kingdom. Five entities are listed under multiple destinations, accounting for the difference between the number of entities and number of entries in this final rule.

The ERC determined to add Karim Daadaa; Modern Agropharmaceuticals & Trade Establishment; Payam Nabavi; and Sina Biomedical Chemistry Company to the Entity List for engaging in conduct contrary to the national security and foreign policy interests of the United States. Specifically, the ERC determined that there is reasonable cause to believe, based on specific and articulable facts, that these entities facilitated the export of U.S. items to Iran in violation of the EAR.

The ERC determined to add China Academy of Electronics and Information Technology; Xinjiang Lianhai Chuangzhi Information Technology Co., Ltd.; Leon Technology Co., Ltd.; Xinjiang Tangli Technology Co., Ltd.; Shenzhen Cobber Information Technology Co., Ltd.; Xinjiang Sailing Information Technology Co., Ltd.; Beijing Geling Shentong Information Technology Co., Ltd.; Tongfang R.I.A. Co., Ltd.; Shenzhen Hua'antai Intelligent Technology Co., Ltd.; Chengdu Xiwu Security System Alliance Co., Ltd.; Beijing Sinonet Science & Technology Co., Ltd.; Urumqi Tianyao Weiye Information Technology Service Co., Ltd.; Suzhou Keda Technology Co., Ltd.; and Xinjiang Beidou Tongchuang Information Technology Co., Ltd. to the Entity List for enabling activities contrary to the foreign policy interests of the United States. Specifically, these entities have been implicated in human rights violations and abuses in the implementation of China's campaign of repression, mass detention, and high-technology surveillance against Uyghurs, Kazakhs, and other members of Muslim minority groups in the Xinjiang Uyghur Autonomous Region (XUAR).

The ERC determined to add Hangzhou Hualan Microelectronics Co., Ltd. and Kyland Technology Co., Ltd.; along with Kyland subsidiaries Armyfly and Kindroid, for activities contrary to the national security and foreign policy of the United States. Specifically, the ERC determined that these entities are acquiring and are attempting to acquire U.S.-origin items in support of military modernization for the People's Liberation Army.

The ERC determined to add Wuhan Raycus Fiber Laser Technologies Co., Ltd. to the Entity List for engaging in conduct that poses a risk of violating the EAR. Specifically, the ERC determined this entity has potentially been involved in the procurement of U.S.-origin items for unauthorized military end-use.

The ERC determined to add Beijing Hileed Solutions Co., Ltd.; Beijing E-Science Co., Ltd.; Info Rank Technologies; and Wingel Zhang to the Entity List for exporting and attempting to export items subject to the EAR to an entity on the U.S. Department of the Treasury's Office of Foreign Asset Control Specially-Designated Nationals List without the necessary licenses.

The ERC determined to add OOO Teson; the Radiant Group of Companies; OOO Trade-Component; and the three associated individuals, Andrey Leonidovich Kuznetsov, Margarita Vasilyevna Kuznetsova, and Dmitry Alexandrovich Kravchenko, on the basis of their attempts to procure items, including U.S.-origin items, for activities contrary to the national security and foreign policy interests of the United States. Specifically, OOO Teson, the Radiant Group of Companies, and OOO Trade-Component are involved in the procurement of U.S.-origin electronic components likely in furtherance of Russian military programs.

The ERC determined that TEM International FZC is involved in proliferation to unsafeguarded nuclear activities that are contrary to the national security and/or foreign policy interests of the United States.

License Review Policy

For one entity—TEM International FZC—BIS imposes the license review policy set forth in § 744.2(d) (restrictions on certain nuclear end-uses) of the EAR for all items subject to the EAR. For thirteen of the thirty-four entities, which constitute thirteen of the fourteen XUAR-related entities, added to the Entity List by this rule, China Academy of Electronics and Information Technology; Xinjiang Lianhai Chuangzhi Information Technology Co. Ltd.; Leon Technology Co. Ltd.; Xinjiang Tangli Technology Co. Ltd.; Shenzhen Cobber Information Technology Co. Ltd.; Xinjiang Sailing Information Technology Co. Ltd.; Beijing Geling Shentong Information Technology Co. Ltd.; Tongfang R.I.A. Co. Ltd.; Shenzhen Hua'antai Intelligent Technology Co. Ltd.; Chengdu Xiwu Security System Alliance Co. Ltd.; Beijing Sinonet Science & Technology Co. Ltd.; Urumqi Tianyao Weiye Information Technology Service Co. Ltd.; and Xinjiang Beidou Tongchuang Information Technology Co. Ltd., BIS imposes a license review policy of case-by-case review for Export Control Classification Numbers (ECCNs) 1A004.c, 1A004.d, 1A995, 1A999.a, 1D003, 2A983, 2D983, and 2E983, for EAR99 items described in the Note to ECCN 1A995, and for items necessary to detect, identify, and treat infectious disease, with a presumption of denial for all other items subject to the EAR. For one of the fourteen XUAR-related entities, Suzhou Keda Technology Co., Ltd., added to the Entity List by this rule, BIS imposes a license requirement for all items subject to the EAR and a license review policy of presumption of denial for all items subject to the EAR, given this entity's additional relationship with military end-users. For the remaining eighteen of the thirty-four entities described above that are being added to the Entity List, BIS imposes a license requirement for all items subject to the EAR and a license review policy of presumption of denial for all items subject to the EAR.

For all thirty-four entities, the license requirements apply to any transaction in which items are to be exported, reexported, or transferred (in country) to any of the entities or in which such entities act as purchaser, intermediate consignee, ultimate consignee, or end user. In addition, no license exceptions are available for exports, reexports, or transfers (in-country) to the entities being added to the Entity List in this rule. The acronym “a.k.a.,” which is an abbreviation of `also known as' is used in entries on the Entity List to identify aliases, thereby assisting exporters, reexporters, and transferors in identifying entities on the Entity List.

For the reasons described above, this final rule adds the following thirty-four entities under forty-three entries to the Entity List and includes, where appropriate, aliases:

Canada

• Karim Daadaa; and

• Modern Agropharmaceuticals & Trade Establishment.

China, People's Republic of

• Armyfly;

• Beijing E-science Co., Ltd.;

• Beijing Geling Shentong Information Technology Co., Ltd.;

• Beijing Hileed Solutions Co., Ltd.;

• Beijing Sinonet Science & Technology Co., Ltd.;

• Chengdu Xiwu Security System Alliance Co., Ltd.;

• China Academy of Electronics and Information Technology;

• Hangzhou Hualan Microelectronics Co., Ltd.;

• Info Rank Technologies;

• Kindroid;

• Kyland Technology Co., Ltd.;

• Leon Technology Co., Ltd.;

• Shenzhen Cobber Information Technology Co., Ltd.;

• Shenzhen Hua'antai Intelligent Technology Co., Ltd.;

• Suzhou Keda Technology Co., Ltd.;

• Tongfang R.I.A. Co., Ltd.;

• Urumqi Tianyao Weiye Information Technology Service Co., Ltd.;

• Wingel Zhang;

• Wuhan Raycus Fiber Laser Technologies Co., Ltd.;

• Xinjiang Beidou Tongchuang Information Technology Co., Ltd.;

• Xinjiang Lianhai Chuangzhi Information Technology Co., Ltd.;

• Xinjiang Sailing Information Technology Co., Ltd.; and

• Xinjiang Tangli Technology Co., Ltd.

Iran

• Payam Nabavi; and

• Sina Biomedical Chemistry Company.

Lebanon

• Karim Daadaa; and

• Modern Agropharmaceuticals & Trade Establishment.

Netherlands

• Suzhou Keda Technology Co., Ltd.

Pakistan

• Suzhou Keda Technology Co., Ltd.

Russia

• Andrey Leonidovich Kuznetsov;

• Dmitry Alexandrovich Kravchenko;

• Margarita Vasilyevna Kuznetsova;

• OOO Teson;

• OOO Trade-Component; and

• Radiant Group of Companies.

Singapore

• Suzhou Keda Technology Co., Ltd.

South Korea

• Suzhou Keda Technology Co., Ltd.

Taiwan

• Hangzhou Hualan Microelectronics Co., Ltd.

Turkey

• Suzhou Keda Technology Co., Ltd.

United Arab Emirates

• TEM International FZC.

United Kingdom

• China Academy of Electronics and Information Technology.

Removals From the Entity List

This rule implements a decision of the ERC to remove “Maintenance Services International (MSI) GmbH,” one entity located in Germany, from the Entity List, on the basis of a removal request. The entry for Maintenance Services International (MSI) GmbH was added to the Entity List on December 22, 2020 (85 FR 83416). The ERC decided to remove this entry based on information BIS received pursuant to § 744.16 of the EAR, and the review the ERC conducted in accordance with procedures described in supplement No. 5 to part 744 of the EAR.

This final rule implements the decision to remove the following entity, located in Germany, from the Entity List:

Germany

• Maintenance Services International (MSI) GmbH.

Revision to the Entity List

The ERC agreed to revise the existing entry for “Kuang-Chi Group,” added to the Entity List under the destination of China on December 22, 2020 (85 FR 83416). This revision will remove Guangqi Science Co., Ltd. as an alias for Kuang-Chi Group. The ERC decided to modify this entry to reflect the entity's correct organizational structure.

ERC Unverified List Decisions

Removal From Unverified List as a Conforming Change for an Addition to the Entity List

This rule removes “TEM International FZC,” an entity located in the UAE, from the Unverified List in supplement no. 6 to part 744 of the EAR. The entry for TEM International FZC was added to the Unverified List on May 17, 2018 (83 FR 22842). BIS is removing the entry for TEM International FZC from the Unverified List because of the ERC determination to add this same entity to the Entity List, as described above. This final rule, as a conforming change to the addition of TEM International FZC to the Entity List, removes TEM International FZC from the Unverified List in supplement no. 6 to part 744. The EAR does not prohibit the listing of entities on the Unverified List and Entity List at the same time. However, as a matter of policy, BIS intends to remove any entity from the Unverified List when the ERC makes a determination that the same entity warrants being included on the more restrictive Entity List. In order to ensure there is no gap in coverage between these two EAR lists, the addition of an entity to the Entity List and the removal from the Unverified List will occur in the same rule whenever this scenario occurs.

ERC MEU List Decisions

Addition to the MEU List

Under § 744.21(b) of the EAR, BIS may inform persons either individually by specific notice, through amendment to the EAR published in the Federal Register, or through a separate notice published in the Federal Register, that a license is required for specific exports, reexports, or transfers (in-country) of any item because there is an unacceptable risk of use in or diversion to a `military end use' or `military end user' in Burma, China, Russia, or Venezuela. Under § 744.21(b)(1) of the EAR, BIS may designate entities subject to this additional prohibition under paragraph (b) that have been determined by the ERC to be a `military end user' pursuant to § 744.21. These entities will be added to supplement no. 7 to part 744 (`Military End-User' (MEU) List) in Federal Register notices published by BIS.

This rule implements the decision of the ERC to add one entity to the MEU List. This entity will be listed on the MEU List under the destination of Russia. The ERC made the decision to add this entity under the standard set forth in § 744.21 of the EAR, including the criteria for what constitutes a `military end use' under paragraph (f) and `military end user' under paragraph (g).

The license requirement for this entity applies to the export, reexport, or transfer (in-country) of any item subject to the EAR listed in supplement no. 2 to part 744. For this entity added to the MEU List by this rule, BIS imposes a license review policy of a presumption of denial as set forth in § 744.21(e) of the EAR.

No license exceptions are available for exports, reexports, or transfers (in-country) to listed entities on the MEU List for items specified in supplement no. 2 to part 744, except license exceptions for items authorized under the provisions of License Exception GOV set forth in § 740.11(b)(2)(i) and (ii) of the EAR.

The acronym “a.k.a.,” which is an abbreviation of `also known as,' is used in entries on the MEU List to identify aliases, thereby assisting exporters, reexporters, and transferors in identifying entities on the MEU List.

For the reasons described above, this final rule adds the following one entity to the MEU List:

Russia

• JSC Kazan Helicopter Plant Repair Service.

Savings Clause

Shipments of items removed from eligibility for a License Exception or for export, reexport, or transfer (in-country) without a license (NLR) as a result of this regulatory action that were en route aboard a carrier to a port of export, reexport, or transfer (in-country) on July 12, 2021, pursuant to actual orders for export or reexport to a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classification, and carries a burden estimate of 29.6 minutes for a manual or electronic submission. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2020, 85 FR 59641 (September 22, 2020); Notice of November 12, 2020, 85 FR 72897 (November 13, 2020).

2. Supplement No. 4 to part 744 is amended:

a. Under CANADA, by adding in alphabetical order entries for “Karim Daadaa” and “Modern Agropharmaceuticals & Trade Establishment”;

b. Under CHINA, PEOPLE'S REPUBLIC OF:

i. By adding in alphabetical order entries for “Armyfly,” “Beijing E-science Co., Ltd.,” “Beijing Geling Shentong Information Technology Co., Ltd.,” “Beijing Hileed Solutions Co., Ltd.,” “Beijing Sinonet Science & Technology Co., Ltd.,” “Chengdu Xiwu Security System Alliance Co., Ltd.,” “China Academy of Electronics and Information Technology,” “Hangzhou Hualan Microelectronics Co., Ltd.,” “Info Rank Technologies,” and “Kindroid”;

ii. By revising the entry for “Kuang-Chi Group”; and

iii. By adding in alphabetical order entries for “Kyland Technology Co., Ltd.,” “Leon Technology Co., Ltd.,” “Shenzhen Cobber Information Technology Co., Ltd.,” “Shenzhen Hua'antai Intelligent Technology Co., Ltd.,” “Suzhou Keda Technology Co., Ltd.,” “Tongfang R.I.A. Co., Ltd.,” “Urumqi Tianyao Weiye Information Technology Service Co., Ltd.,” “Wingel Zhang,” “Wuhan Raycus Fiber Laser Technologies Co., Ltd.,” “Xinjiang Beidou Tongchuang Information Technology Co., Ltd.,” “Xinjiang Lianhai Chuangzhi Information Technology Co., Ltd.,” “Xinjiang Sailing Information Technology Co., Ltd.,” and “Xinjiang Tangli Technology Co., Ltd.”;

c. Under GERMANY, by removing the entry for “Maintenance Services International (MSI) GmbH”;

d. Under IRAN, by adding in alphabetical order entries for “Payam Nabavi” and “Sina Biomedical Chemistry Company”;

e. Under LEBANON, by adding in alphabetical order entries for “Karim Daadaa” and “Modern Agropharmaceuticals & Trade Establishment”;

f. Under NETHERLANDS, by adding in alphabetical order an entry for “Suzhou Keda Technology Co., Ltd.”;

g. Under PAKISTAN, by adding in alphabetical order an entry for “Suzhou Keda Technology Co., Ltd.”;

h. Under RUSSIA, by adding in alphabetical order entries for “Andrey Leonidovich Kuznetsov,” “Dmitry Alexandrovich Kravchenko,” “Margarita Vasilyevna Kuznetsova,” “OOO Teson,” “OOO Trade-Component,” and “Radiant Group of Companies”;

i. Under SINGAPORE, by adding in alphabetical order an entry for “Suzhou Keda Technology Co., Ltd.”;

j. Under SOUTH KOREA:

i. By arranging the entries in alphabetical order; and

ii. By adding in alphabetical order an entry for “Suzhou Keda Technology Co., Ltd.”;

k. Under TAIWAN, by adding in alphabetical order an entry for “Hangzhou Hualan Microelectronics Co., Ltd.”;

l. Under TURKEY, by adding in alphabetical order an entry for “Suzhou Keda Technology Co., Ltd.”;

m. Under the UNITED ARAB EMIRATES, by adding in alphabetical order an entry for “TEM International FZC”; and

n. Under UNITED KINGDOM, by adding in alphabetical order an entry for “China Academy of Electronics and Information Technology”.

The additions and revisions read as follows:

Supplement No. 4 to Part 744—Entity List

* * * * *

Country | Entity | License requirement | License review policy | Federal Register citation
* * * * * * *
CANADA | * * * * * *
| Karim Daadaa, a.k.a., the following one alias: —Karim Hamdi Mohd El Daadaa. 235 Rue Maisonneuve, Laval, Canada. (See alternate addresses under Lebanon). | All items subject to the EAR. (See § 744.11 of the EAR). | Presumption of denial. | 86 FR [INSERT FR PAGE NUMBER, 7/12/21].
| * * * * * *
| Modern Agropharmaceuticals & Trade Establishment, 235 Rue Maisonneuve, Laval, Canada. (See alternate addresses under Lebanon). | All items subject to the EAR. (See § 744.11 of the EAR). | Presumption of denial. | 86 FR [INSERT FR PAGE NUMBER, 7/12/21].
| * * * * * *
* * * * * * *
CHINA, PEOPLE'S REPUBLIC OF | * * * * * *
| Armyfly, a.k.a., the following three aliases: —Beijing Dongtu Junyue Technology; —Beijing Junyue Faixiang Technology; and —Beijing Kyland Junyue Technology. 2nd Floor, Chongxin Creative Building, No. 18 Shixing East Street, Shijingshan Park, Zhongguancun Science Park, Shijingshan District, Beijing, China. | All items subject to the EAR. (See § 744.11 of the EAR). | Presumption of denial. | 86 FR [INSERT FR PAGE NUMBER, 7/12/21].
| * * * * * *
| Beijing E-science Co., Ltd., a.k.a, the following alias: —Beijing Yanjing Electronics Co., Ltd. No. 9 Jiuxianqiao East Rd, Chaoyang, Beijing, China 100015; and A36-2 Huanyuan Haidian, China. | All items subject to the EAR. (See § 744.11 of the EAR). | Presumption of denial. | 86 FR [INSERT FR PAGE NUMBER, 7/12/21].
| * * * * * *
| Beijing Geling Shentong Information Technology Co., Ltd., a.k.a., the following two aliases: —DeepGlint; and —Deep Glint International. 1A025, 101, 1st Floor, No. 1, Wangjing East Road, Chaoyang District, Beijing, China; and Building B, Building 1, Tiandi Linfeng Innovation Industrial Park, 1 Yongtaizhuang North Road, Haidian District, Beijing, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| Beijing Hileed Solutions Co., Ltd., a.k.a, the following three aliases: Beijing Alite Technologies Co.; —ALCO; and —Beijing Haili Lianhe Keji Youxian Gongsi. A36-2 Xisanqi Huanyuan Haidian District, China; and West of 7/F, A2, No. 9 Jiuxianqiao East Road, Chaoyang Dist., Beijing, China, 100016; and Room 701, Floor 7, Building 2, No. 9 Courtyard, Jiuxianqiao East, Beijing, China; and 12A Beisanhuan Zhong Road, P.O. Box 3042, Beijing, China. | All items subject to the EAR. (See § 744.11 of the EAR). | Presumption of denial. | 86 FR [INSERT FR PAGE NUMBER, 7/12/21].
| * * * * * *
| Beijing Sinonet Science & Technology Co., Ltd., Building 5, Courtyard No. 7, Dijin Road, Haidian District, Beijing, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Chengdu Xiwu Security System Alliance Co., Ltd., a.k.a., the following two aliases: —Chengdu Xiwuxinan Intelligent System Co., Ltd.; and —XWSESA No. 7, Section 4, Renmin South Road, Wuhou District, Chengdu, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| China Academy of Electronics and Information Technology, a.k.a., the following two aliases: —CAEIT; and —CETC CAEIT. 11 Shuangyuan Road, Badachu High-Tech Park, Shijingshan District, Beijing, China. (See alternative address under United Kingdom.) | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Hangzhou Hualan Microelectronics Co., Ltd., a.k.a., the following five aliases: —Hangzhou Hualan Microelectronique Co., Ltd.; —Hualan Micro; —Sage Microelectronics Corporation; —Sage Micro; and —Hangzhou Huasheng Microelectronics. 22nd Floor, Building 1, Huarui Center, No. 66 Jianshe 1st Road, Xiaoshan District, Hangzhou, China; and 6th Floor, North Block, Yinhe Fengyun Building, Gaoxin North Sixth Road, Nanshan District, Shenzhen, China; and Room 510A, Ninggu Building, No. 7940 Humin Road, Minhang District, Shanghai, China; and Microelectronics Research Center, Hangzhou Dianzi University (7th Floor, Science and Technology Museum, Xiasha Campus), China; and Room 1202, Unit 4, Building 2, No. 9, Fenghao East Road, Haidian District, Beijing, China; and 2106 Tower F, Everbright Convention Center, Shanghai, China; and Room 1204, Building A, Skyworth Building, Shenzhen, China. (See alternate address under Taiwan). | All items subject to the EAR. (See § 744.11 of the EAR). | Presumption of denial. | 86 FR [INSERT FR PAGE NUMBER, 7/12/21].
| * * * * * *
| Info Rank Technologies, Flat/Rm 1021, 10/F Ocean Centre, Harbour City, 5 Canton Road, TST Kowloon, Hong Kong, China. | All items subject to the EAR. (See § 744.11 of the EAR). | Presumption of denial. | 86 FR [INSERT FR PAGE NUMBER, 7/12/21].
| * * * * * *
| Kindroid, a.k.a., the following two aliases: —Jinzhuo Network Technology; and —Shanghai Jinzhou Technology. Room 802, Building 5, No. 3000 Longdong Avenue, Pudong New Area, Shanghai, China. | All items subject to the EAR. (See § 744.11 of the EAR). | Presumption of denial. | 86 FR [INSERT FR PAGE NUMBER, 7/12/21].
| * * * * * *
| Kuang-Chi Group; a.k.a. the following one alias: —Shenzhen Guangqi Group. Software Building, No. 9, Gaoxinzhong Road, Nanshan District, Shenzhen, 518057, China. | All items subject to the EAR. (See § 744.11 of the EAR). | Case-by-case review for items necessary to detect, identify and treat infectious disease; Presumption of denial for all other items subject to the EAR. | 85 FR 83420, 12/22/20. 86 FR [INSERT FR PAGE NUMBER, 7/12/21].
| * * * * * *
| Kyland Technology Co., Ltd., a.k.a., the following three aliases: —Dongtu Technology; —Beijing Dongtu Technology; and —Beijing Yibeite Technology. Floor 9-15, Building 2, Xishanhui, Shixing Street, Shijingshan District, Beijing, China; and Room 901, 8th Floor, Building 2, No. 30, Shixing Street, Shijingshan District, Beijing, China. | All items subject to the EAR. (See § 744.11 of the EAR). | Presumption of denial. | 86 FR [INSERT FR PAGE NUMBER, 7/12/21].
| * * * * * *
| Leon Technology Co., Ltd., a.k.a., the following four aliases: —Liang Technology; —Lion Technology; —Xinjiang Leon Telecom; and Technology —LAJS. No. 518 Yanshan Street, Urumqi Economic and Technological Development Zone, Xinjiang Uyhgur Autonomous Region, China; and No. 13.14.15A, 30th Floor, Unit 4, Building 1, No. 508, East Second Section of the Second Ring Road, Chenghua District, Chengdu, Sichuan Province, China; and No. 2-15, Meijing District, Lishui, Tumushuke City, Xinjiang, China; and Room 614 (6th Floor), Office Building, Nanchang Haowei Shopping Mall, No. 1155, Fusheng Road, Xihu District, Nanchang City, Jiangxi Province, China; and No. 491-3, Building 1, Yonyou Industrial Park, Yazhou Bay Science and Technology City, Yazhou District, Sanya City, Hainan Province, China; and Room 111, 1st Floor, Building 8, No. 48, Jiuhuan Road, Jianggan District, Hangzhou City, Zhejiang Province, China; and Room 2001, 2002, 2003, 2004, 2005, No. 122, Huangpu Avenue West, Tianhe District, Guangzhou City, China; and No. 17-2-402, Jiaxin Garden, 20 Wenhua Road, Korla City, Bazhou, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Shenzhen Cobber Information Technology Co., Ltd., a.k.a., the following six aliases: —X-Face; —XFaceTech; —Shenzhen Kehao Information; Technology Co., Ltd.; —Shenzhen Kepa Information Technology; —Kezhen; and —Cobber. 6th Floor, Block B, Shenzhen Production and Research Base, Huazhong University of Science and Technology, No. 9 Yuexing 3rd Road, Nanshan District, Shenzhen, Shenzhen, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Shenzhen Hua'antai Intelligent Technology Co., Ltd., a.k.a., the following alias: —Vikor. South of the third floor of U-shaped factory building, Beijing Railway Technology Industrial Park, No. 49 Changjiangpu Road, Henggang Street, Longgang District, Shenzhen, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Suzhou Keda Technology Co., Ltd., a.k.a, the following one alias: —Kedacom. No. 131, Jinshan Road, High-tech Zone, Suzhou City, Jiangsu Province, China; and No. 131, Jinshan Rd., High-Tech Zone, Suzhou City, Jiangsu Province, China; and 4th Floor, No. 111, Anju North Road, Shuimogou District, Urumqi City, China; and Room 1201, Ruichang Building, No. 136, Youhao South Road, Shayibake District, Urumqi, Xinjiang, China. (See alternate addresses under Netherlands, Pakistan, Singapore, South Korea, and Turkey). | All items subject to the EAR. (See § 744.11 of the EAR). | Presumption of denial. | 86 FR [INSERT FR PAGE NUMBER, 7/12/21].
| * * * * * *
| Tongfang R.I.A. Co., Ltd., 23F, Block A, Tsinghua Tongfang Technology Building, Wangzhuang Road, Haidian District, Beijing, China; and No. 2002, 20th Floor, Building 4, No. 1, Wangzhuang Road, Haidian District, Beijing, China; and 2000, Building 23, No. 18, Anningzhuang East Road, Qinghe, Haidian District, Beijing, China; and 101, 1st Floor, Building 69, Zone B, Venture Innovation City, No. 15 Fengji Avenue, Yuhuatai District, Nanjing, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| Urumqi Tianyao Weiye Information Technology Service Co., Ltd., 25th Floor, Block A, Chuangzhi Building, Software Park, North Kanas Road, Economic and Technological Development Zone, Urumqi, Xinjiang, China; and 150, 151, 172-176, Building 1, Frontier World Trade Center, No. 566, Yan'an Road, Tianshan District, Urumqi, Xinjiang, China; and No. 147-150, Xinqishi Shopping Center, Sondak Road, Guangming Street, Atsushi City, Xezhou, Xinjiang, China; and Unit 1, Residential Building, Meteorological Bureau, Sanxia West Road, Tuanjie Road, Bogdal Town, Wenquan County, Bozhou, Xinjiang, China; and 67 Renmin East Road, Akto Town, Akto County, Kizilsu Kirgiz Autonomous Prefecture, Xinjiang, China; and Unit 1-2, Building B2, Auto Parts Market, Daxin Auto City, Wensu County, Aksu District, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Wingel Zhang, No. 9 Jiuxianqiao East Rd, Chaoyang, Beijing, China 100015; and A36-2 Huanyuan Haidian, China. | All items subject to the EAR. (See § 744.11 of the EAR). | Presumption of denial. | 86 FR [INSERT FR PAGE NUMBER, 7/12/21].
| * * * * * *
| Wuhan Raycus Fiber Laser Technologies Co., Ltd., Building 10, Innovation Base of Hus, Tangxunhu North Road 33 East LA, Wuhan, Hubei, China 430223; and No. 999 Gaoxin Avenue, East Lake Hi-Tech Development Zone, Wuhan, Hubei, China 430223. | All items subject to the EAR. (See § 744.11 of the EAR). | Presumption of denial. | 86 FR [INSERT FR PAGE NUMBER, 7/12/21].
| * * * * * *
| Xinjiang Beidou Tongchuang Information Technology Co., Ltd., Room 101-102, Unit 1, Building 12, No. 989, Xinhuan North Road, Urumqi, Xinjiang, China; and Room 217-3, Information Technology Innovation Park, Xinjiang University, No. 499 Northwest Road, Shayibake District, Urumqi, Xinjiang, China; and No. 1901-1902, 19th Floor, 1 Shaanxi Building, Shenka Avenue Headquarters Economic Zone, Kashgar Economic Development Zone, Kashgar, Xinjiang, China; and No. 11, Lane 1, Yongxing Road, Yongning Town, Yanqi County, Bazhou, Xinjiang, China; and No. 33 South Boltala Road, Alashankou, Bozhou, Xinjiang, China; and Room 101, H1 District, Minzhu Middle Road Side Trade Market, Akqi Town, Aletai Habahe County, Xinjiang, China; and Shop 22, Section F, Second Floor, Golden Crown Shopping and Leisure Plaza, No. 658 Tunken East Street, Tumushuke City, Xinjiang, China; and North Side of Xingfu West Road, Jinghe County, Bozhou, Xinjiang, China; and 1st Floor of Building No. 7, Building No. 4, Building No. 11, Gongyuan Street, Yining City, Yili Prefecture, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Xinjiang Lianhai Chuangzhi Information Technology Co., Ltd., a.k.a., the following alias: —Xinjiang Lianhai Chuangzhi Xinxi Keji Youxian Gongsi. Room 908-5, Floor 9, Shumagang Tower, No. 258 Gaoxin Street, High-Tech Industrial Zone (New City), Urumqi, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Xinjiang Sailing Information Technology Co., Ltd., a.k.a., the following two aliases: —Xi Ling Information; and —Xinjiang Xiling Information Technology 10th Floor, Dacheng International Building, No. 358 Beijing South Road, High-tech Zone (New City), Urumqi, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
| Xinjiang Tangli Technology Co., Ltd., Room 601, Leon Technology R&D Service Center, Building 1, No. 518, Yanshan Street, Urumqi Economic and Technological Development Zone, Xinjiang, China. | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
* * * * * * *
IRAN | * * * * * *
| Payam Nabavi, Unit 2, 2 Golriz Ave, Qaem Maqam Farahani Hafte-e Tir Sq, Tehran, Iran; and Unit 4, 157 South Mofatteh St., Hafte-Tir, Tehran, Iran. | All items subject to the EAR. (See § 744.11 of the EAR). | Presumption of denial. | 86 FR [INSERT FR PAGE NUMBER, 7/12/21].
| * * * * * *
| Sina Biomedical Chemistry Company, a.k.a., the following two aliases: —Shimi Tebe Sina; and —SBMC. Unit 2, 2 Golriz Ave, Qaem Maqam Farahani Hafte-e Tir Sq, Tehran, Iran; and Unit 4, 157 South Mofatteh St., Hafte-Tir, Tehran, Iran. | All items subject to the EAR. (See § 744.11 of the EAR). | Presumption of denial. | 86 FR [INSERT FR PAGE NUMBER, 7/12/21].
| * * * * * *
* * * * * * *
LEBANON | * * * * * *
| Karim Daadaa, a.k.a., the following one alias: —Karim Hamdi Mohd El Daadaa. Corniche El-Mazraa, Rihani Center, Arab Bank Bldg, 6th Floor, Office #1, Beirut, Lebanon; and Anwar Building, 9th Floor, Salim Salam Blvd & Strt Burj Abi Haidar, Beirut, Lebanon. (See alternate address under Canada). | All items subject to the EAR. (See § 744.11 of the EAR). | Presumption of denial. | 86 FR [INSERT FR PAGE NUMBER, 7/12/21].
| * * * * * *
| Modern Agropharmaceuticals & Trade Establishment, Corniche El-Mazraa, Rihani Center —Arab Bank Bldg 6th Floor, Office #1, Beirut, Lebanon; and Anwar Building, 9th Floor, Salim Salam Blvd & Strt Burj Abi Haidar, Beirut, Lebanon. (See alternate address under Canada). | All items subject to the EAR. (See § 744.11 of the EAR). | Presumption of denial. | 86 FR [INSERT FR PAGE NUMBER, 7/12/21].
| * * * * * *
* * * * * * *
NETHERLANDS | * * * * * *
| Suzhou Keda Technology Co., Ltd., a.k.a, the following alias: —Kedacom. Groenhof 344, Amstelveen, 1186GK, The Netherlands. (See alternate addresses under China, Pakistan, Singapore, South Korea, and Turkey). | All items subject to the EAR. (See § 744.11 of the EAR). | Presumption of denial. | 86 FR [INSERT FR PAGE NUMBER, 7/12/21].
* * * * * * *
PAKISTAN | * * * * * *
| Suzhou Keda Technology Co., Ltd., a.k.a, the following one alias: —Kedacom. 4/A1, Plot # 4E-II, 6th Jami Commercial St., Phase VII, Near Khayaban-e-Ittehad, DHA, Karachi, Pakistan. (See alternate addresses under China, Netherlands, Singapore, South Korea, and Turkey). | All items subject to the EAR. (See § 744.11 of the EAR). | Presumption of denial. | 86 FR [INSERT FR PAGE NUMBER, 7/12/21].
| * * * * * *
* * * * * * *
RUSSIA | * * * * * *
| Andrey Leonidovich Kuznetsov, 69 Udaltsova Street 49, Moscow, Russia. | All items subject to the EAR. (See § 744.11 of the EAR). | Presumption of denial. | 86 FR [INSERT FR PAGE NUMBER, 7/12/21].
| * * * * * *
| Dmitry Alexandrovich Kravchenko, Grizodubovoy Str. 4, bld. 3, apt. 84, Moscow, Russia. | All items subject to the EAR. (See § 744.11 of the EAR). | Presumption of denial. | 86 FR [INSERT FR PAGE NUMBER, 7/12/21].
| * * * * * *
| Margarita Vasilyevna Kuznetsova, Udaltsova 85A 210, Moscow, Russia. | All items subject to the EAR. (See § 744.11 of the EAR). | Presumption of denial. | 86 FR [INSERT FR PAGE NUMBER, 7/12/21].
| * * * * * *
| OOO Teson, a.k.a., the following one alias: —OOO TecoH. D. 65 Korp. 1, Ul. Profsoyuznaya Moscow, 117342 Russia; and 49 Vyborgskaya Waterfront, Office 703, St. Petersburg, Russia 194044. | All items subject to the EAR. (See § 744.11 of the EAR). | Presumption of denial. | 86 FR [INSERT FR PAGE NUMBER, 7/12/21].
| OOO Trade-Component, a.k.a., the following one alias: —Treyd Komponent Tikhvinsky Lane, Building 11, Bldg 2, Room 29 127055 Moscow City, Russia. | All items subject to the EAR. (See § 744.11 of the EAR). | Presumption of denial. | 86 FR [INSERT FR PAGE NUMBER, 7/12/21].
| * * * * * *
| Radiant Group of Companies, a.k.a., the following three aliases: —Radiant Group; —Radiant Elkom; and —Radiant Electronic Components. D. 65 Korp. 1, Ul. Profsoyuznaya Moscow, 117342 Russia. | All items subject to the EAR. (See § 744.11 of the EAR). | Presumption of denial. | 86 FR [INSERT FR PAGE NUMBER, 7/12/21].
| * * * * * *
* * * * * * *
SINGAPORE | * * * * * *
| Suzhou Keda Technology Co., Ltd., a.k.a, the following alias: Kedacom 1 Tannery Lane One Tat Seng #04-01, Singapore. (See alternate addresses under China, Netherlands, Pakistan, South Korea, and Turkey). | All items subject to the EAR. (See § 744.11 of the EAR). | Presumption of denial. | 86 FR [INSERT FR PAGE NUMBER, 7/12/21].
| * * * * * *
* * * * * * *
SOUTH KOREA | * * * * * *
| Suzhou Keda Technology Co., Ltd., a.k.a, the following alias: —Kedacom. #1802 Daeryung Techno 15th, 401 Simindaero Dongan-Gu, Gyunggi-Do, South Korea. (See alternate addresses under China, Netherlands, Pakistan, Singapore, and Turkey). | All items subject to the EAR. (See § 744.11 of the EAR). | Presumption of denial. | 86 FR [INSERT FR PAGE NUMBER, 7/12/21].
* * * * * * *
TAIWAN | * * * * * *
| Hangzhou Hualan Microelectronics Co., Ltd., a.k.a., the following five aliases: —Hangzhou Hualan Microelectronique Co., Ltd.; —Hualan Micro; —Sage Microelectronics Corporation; —Sage Micro; and —Hangzhou Huasheng Microelectronics. 8th Floor-3, No. 192 Ruiguang Road, Neihu District, Taipei City, Taiwan. (See alternate addresses under China). | All items subject to the EAR. (See § 744.11 of the EAR). | Presumption of denial. | 86 FR [INSERT FR PAGE NUMBER, 7/12/21].
| * * * * * *
* * * * * * *
TURKEY | * * * * * *
| Suzhou Keda Technology Co., Ltd., a.k.a, the following alias: —Kedacom. Mahmut Sevket Pasa Mah, Odesa Bulvari, Okmeydani No. 34, 34000 Sisli/Istanbul, Turkey. (See alternate addresses under China, Netherlands, Pakistan, Singapore, and South Korea). | All items subject to the EAR. (See § 744.11 of the EAR). | Presumption of denial. | 86 FR [INSERT FR PAGE NUMBER, 7/12/21].
| * * * * * *
* * * * * * *
UNITED ARAB EMIRATES | * * * * * *
| TEM International FZC, a.k.a., the following alias: —TEM. Floor 4, Block B, Entrance No. 2 Business Village, Deira A1 Maktoum Rd, Dubai P.O. Box 183125, U.A.E. | All Items Subject to the EAR. | See § 744.2(d) of the EAR. | 86 FR [INSERT FR PAGE NUMBER, 7/12/21].
| * * * * * *
UNITED KINGDOM | * * * * * *
| China Academy of Electronics and Information Technology, a.k.a., the following two aliases: —CAEIT; and —CETC CAEIT. 3rd Floor, 9 St. Clare Street, London, United Kingdom. (See alternative address under China.) | All items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR. | 86 FR [INSERT FR PAGE NUMBER, 7/12/21].
| * * * * * *
* * * * * * *

* * * * *

Supplement No. 6 to Part 744 [Amended]

3. Supplement No. 6 to part 744 is amended under UNITED ARAB EMIRATES by removing the entry for “TEM International FZC”.

4. Supplement No. 7 to part 744 is amended under RUSSIA by adding in alphabetical order an entry for “JSC Kazan Helicopter Plant Repair Service” to read as follows:

Supplement No. 7 to Part 744—`Military End-User' (MEU) List

* * * * *

Country | Entity | Federal Register citation
* * * * * * *
RUSSIA | * * * * * *
| JSC Kazan Helicopter Plant Repair Service, a.k.a., the following two aliases: —Kazanski Vertoletny Zavod Remservis; and —KVZ Remservis. Ulitsa Tetsevskaya 14, Kazan, Russia. | 86 FR [INSERT FR PAGE NUMBER, 7/12/21].
| * * * * * *
* * * * * * *

Matthew S. Borman,
Deputy Assistant Secretary for Export Administration.

[FR Doc. 2021-14656 Filed 7-9-21; 8:45 am]

BILLING CODE 3510-33-P